DEPARTMENT OF ENERGY

Federal Energy Regulatory Commission

Combined Notice of Filings No. 1

October 19, 2009.

Take notice that the Commission has received the following Natural Gas Pipeline Rate and Refund Report filings:

Docket Numbers: RP10-46-000.

Applicants: Algonquin Gas Transmission, LLC.

Description: Algonquin Gas Transmission, LLC submits the Second Revised Sheet No. 625 to FERC Gas Tariff, Fifth Revised Volume No. 1.

Filed Date: 10/13/2009.

Accession Number: 20091015-0118.

Comment Date: 5 p.m. Eastern Time on Monday, October 26, 2009.

Docket Numbers: RP10-49-000.

Applicants: Rockies Express Pipeline, LLC.

Description: Third Revised Sheet No. 7B Superseding Second Revised Sheet No. 7B et al. to its FERC Gas FERC Gas Tariff, Second Volume No. 1, to be effective October 14, 2009.

Filed Date: 10/14/2009.

Accession Number: 20091014-0097.

Comment Date: 5 p.m. Eastern Time on Monday, October 26, 2009.

Docket Numbers: RP10-50-000.

Applicants: Centra Pipelines Minnesota Inc.

Description: Centra Pipelines Minnesota Inc. submits Sixth Revised Sheet No 35 to FERC Gas Tariff, Second Revised Volume No 2.

Filed Date: 10/15/2009.

Accession Number: 20091016-0111.

Comment Date: 5 p.m. Eastern Time on Tuesday, October 27, 2009.

Docket Numbers: RP10-51-000.

Applicants: Equitrans, L.P.

Description: Equitrans, LP submits an executed copy of base transportation agreement 457.

Filed Date: 10/16/2009.

Accession Number: 20091016-0112.

Comment Date: 5 p.m. Eastern Time on Wednesday, October 28, 2009.

Docket Numbers: RP10-52-000.

Applicants: ANR Pipeline Company.

Description: ANR Pipeline Company submits Original Sheet No. 7A to FERC Gas Tariff, Second Revised Volume No. 1.

Filed Date: 10/16/2009.

Accession Number: 20091016-0113.

Comment Date: 5 p.m. Eastern Time on Wednesday, October 28, 2009.

Docket Numbers: RP10-53-000.

Applicants: Texas Eastern Transmission LP.

Description: Texas Eastern Transmission, LP submits Second Revised Sheet 10 et al. of its FERC Gas Tariff Seventh Revised Volume 1 effective 11/16/09.

Filed Date: 10/16/2009.

Accession Number: 20091016-0114.

Comment Date: 5 p.m. Eastern Time on Wednesday, October 28, 2009.

Docket Numbers: RP10-54-000.

Applicants: Gulf South Pipeline Company, LP.

Description: Gulf South Pipeline Company, LP submits a negotiated rate letter agreement executed by Gulf South and Okaloosa Gas District Contract 37337.

Filed Date: 10/16/2009.

Accession Number: 20091016-0109.

Comment Date: 5 p.m. Eastern Time on Wednesday, October 28, 2009.

Docket Numbers: RP10-55-000.

Applicants: Gulf South Pipeline Company, LP.

Description: Gulf South Pipeline Company, LP submits an amendment to a negotiated rate letter agreement executed by Gulf South and its customers in relation to the East Texas to Mississippi Expansion Project.

Filed Date: 10/16/2009.

Accession Number: 20091016-0108.

Comment Date: 5 p.m. Eastern Time on Wednesday, October 28, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-26617 Filed 11-4-09; 8:45 am]

BILLING CODE 6717-01-P